DEPARTMENT OF LABOR

Office of the Secretary

RIN 1290-AA52

Addressing Barriers to Participation of Faith Organizations in DOL Programs and Funding

AGENCY: Center for Faith, Labor.

ACTION: Request for information.

SUMMARY: The U.S. Department of Labor (the Department or DOL) fosters, promotes, and develops the welfare of wage earners, job seekers, and retirees of the United States. DOL also improves working conditions, advances opportunities for profitable employment, and safeguards work-related benefits and rights. Faith organizations have historically been vital partners with important expertise, perspective, and ability to help advance DOL's mission. DOL seeks input from faith organizations and interested individuals to identify barriers to faith organizations' participation in DOL-funded or regulated programs and ensure DOL provides equal treatment and reasonable accommodations for faith organizations. This request for information (RFI) aims to gather information on how DOL can better engage qualified faith organizations to help deliver services, including job training, employment support, and community outreach, without undue restrictions on such organizations' religious liberty.

DATES: To be assured consideration, comments must be received no later than February 9, 2026.

ADDRESSES:

Written Comments: You may submit comments and attachments, identified by Regulatory Identifier Number (RIN) 1290-AA52, electronically at https://www.regulations.gov, which is the Federal e-Rulemaking Portal. Follow the instructions online for making electronic submissions.

Instructions: All submissions must include the agency name and RIN 1290-AA52 for this request. All comments received, including any personal information you provide, will be posted without change on https://www.regulations.gov. Therefore, the Department cautions commenters about submitting information they do not want made available to the public, or submitting materials that contain personal information (either about themselves or others), such as Social Security Numbers and birthdates.

FOR FURTHER INFORMATION CONTACT: Kenneth Wolfe, Director, Center for Faith at faith@dol.gov.

SUPPLEMENTARY INFORMATION:

I. Executive Summary

In this document, the Department is taking initial steps to learn more about the needs of faith organizations who are interested in helping advance DOL's mission of fostering, promoting, and developing the welfare of wage earners, job seekers, and retirees. Faith organizations have a long history of providing critical services, such as job training, education, career counseling, and community support in a culturally competent and compassionate manner. This RFI solicits input from stakeholders, including faith organizations and program participants, to identify barriers to participation in DOL-funded or regulated programs, suggest potential reasonable religious accommodations, and propose strategies to improve outreach to and engagement with faith organizations.

II. Background

The Department administers programs and funding to support workforce development, job training, unemployment insurance, and wage earner protections. Faith organizations have a long history of providing critical services, such as job training, education, career counseling, and community support in a culturally competent and compassionate manner.

Executive Order 14291 issued by President Donald Trump on May 1, 2025, declares: “The Founders envisioned a Nation in which religious voices and views are integral to a vibrant public square and human flourishing and in which religious people and institutions are free to practice their faith without fear of discrimination or hostility from the Government.” The Executive Order further states that it will be “the policy of the executive branch to vigorously enforce the historic and robust protections for religious liberty enshrined in Federal law.”

Executive Order 14205, issued by President Donald Trump in February 2025, is aimed at assisting faith-based entities and houses of worship in their efforts to strengthen American families, promote work and self-sufficiency, and protect religious liberty. As part of the executive order, a White House Faith Office was established, with each agency creating a Center for Faith with a faith director. DOL has a Center for Faith, a faith director, and a staff of appointees to carry out this work at the agency.

Consistent with the principles outlined in these Executive Orders, DOL believes faith groups and houses of worship, to the fullest extent permitted by law, should be able to compete on a level playing field for grants, contracts, and other federal funding opportunities. DOL seeks to ensure its regulations, policies, and practices align with these principles and facilitate the participation of qualified faith organizations.

III. Request for Information

In this Section III, the Department solicits responses to questions primarily for the purpose of considering whether additional guidance or regulatory changes would be helpful to facilitate faith organizations' participation in DOL programs and funding opportunities.

1. What, if any, specific DOL regulations, guidance, or policies, explicitly or implicitly restrict or discourage faith-based organizations from participating in DOL-funded programs (e.g., job training, workforce development, or employment services)?

2. If applicable, provide examples of how these barriers impact your faith organization's ability to deliver services.

3. What, if any, changes to regulations or procedures do you recommend in order to address these issues?

4. What accommodations, policies, or tools could DOL develop to ensure faith organizations receive reasonable accommodations for their religious beliefs and practices while participating in DOL programs?

5. Can you provide examples of specific accommodations you believe would enhance the participation of faith organizations in DOL-funded programs?

6. What platforms or strategies should DOL use to ensure outreach to faith organizations is effective and they are aware of funding opportunities and program requirements?

7. In what ways do you believe faith organizations contribute to DOL's mission of improving employment outcomes and wage earner welfare?

8. What do you believe the impact on communities would be if faith organizations were unable to participate in DOL programs or access federal funding?

9. What metrics or data should DOL collect to assess the effectiveness of faith organizations in delivering DOL-funded services?

10. Are there ways DOL can support the work of faith organizations on current or future workforce development, apprenticeships, and job training other than by providing federal funding (for instance, by providing technical assistance)?

11. What other resources can DOL provide that would be helpful for faith organizations? How else can DOL help faith organizations engage with workforce-related issues?

IV. Authority and Signature

This document was prepared under the direction of Lori Chavez-DeRemer, Secretary of Labor.

Lori Chavez-DeRemer,
Secretary of Labor.

[FR Doc. 2025-22457 Filed 12-9-25; 8:45 am]

BILLING CODE 4510-HL-P